DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that collection of information included in its Prohibited Transaction Exemption 97-41 has been approved by the Office of Management and Budget (OMB) under the Paperwork Reduction Act of 1995 (PRA 95). This notice announces the OMB approval number and expiration date.

FOR FURTHER INFORMATION CONTACT: Address requests for copies of the information collection request (ICR) to Gerald B. Lindrew, U.S. Department of Labor, Pension and Welfare Benefits Administration, 200 Constitution Avenue, NW, Room N-5647, Washington, DC 20210. Telephone: (202) 219-4782. This is not a toll-free number.

SUPPLEMENTARY INFORMATION: In the Federal Register of March 23, 2000 (65 FR 15653), the Agency announced its intent to request renewal of its current OMB approval for the information collection provisions of Prohibited Transaction Class Exemption 97-41 (Collective Investment Fund Conversion Transactions). In accordance with PRA 95, OMB has renewed its approval for the ICR under OMB control number 1210-0104. The approval expires 08/31/2003.

Under 5 CFR 1320.5 (b), an Agency may not conduct or sponsor, and a person is not required to respond to, a collection of information unless the collection of information displays a valid control number.

Dated: September 7, 2000.
Gerald B. Lindrew,
Deputy Director, Office of Policy and Research, Pension and Welfare Benefits Administration.

[FR Doc. 00-23512 Filed 9-12-00; 8:45 am]

BILLING CODE 4510-29-M